DEPARTMENT OF TRANSPORTATION

Surface Transportation Board

[STB Finance Docket No. 34634]

Mission Mountain Railroad, Inc.—Acquisition Exemption—The Burlington Northern and Santa Fe Railway Company

Mission Mountain Railroad, Inc. (MMT), a noncarrier, has filed a verified notice of exemption under 49 CFR 1150.31 to acquire by purchase and lease from The Burlington Northern and Santa Fe Railway Company (BNSF) rail lines in the State of Montana. The rail line being purchased is between milepost 1249.35, near Stryker, and milepost 1272.22, near Eureka, in Lincoln County, MT, a distance of approximately 22.87 miles. The rail line being leased is between milepost 1211.86, near Columbia Falls, and milepost 1227.58, near Kalispell, in Flathead County, MT, a distance of approximately 15.72 miles.¹ MMT will operate both lines.

¹ BNSF is retaining the right to use the wye tracks at Columbia Falls.

The transaction is related to STB Finance Docket No. 34635, Watco Companies, Inc.—Continuance in Control Exemption—Mission Mountain Railroad, Inc., wherein Watco Companies, Inc., has concurrently filed a verified notice of exemption to continue in control of MMT upon MMT's becoming a Class III rail carrier.

MMT certifies that its projected revenues as a result of this transaction will not result in MMT's becoming a Class II or Class I rail carrier, and further certifies that its projected annual revenues will not exceed $5 million.

The transaction was expected to be consummated on or shortly after December 28, 2004.

If the notice contains false or misleading information, the exemption is void ab initio. Petitions to revoke the exemption under 49 U.S.C. 10502(d) may be filed at any time. The filing of a petition to revoke will not automatically stay the transaction.

An original and 10 copies of all pleadings, referring to STB Finance Docket No. 34634, must be filed with the Surface Transportation Board, 1925 K Street, NW., Washington, DC 20423-0001. In addition, a copy of each pleading must be served on Karl Morell, Of Counsel, Ball Janik LLP, 1455 F Street, NW., Suite 225, Washington, DC 20005.

Board decisions and notices are available on our Web site at http://www.stb.dot.gov.

Decided: January 12, 2005.
By the Board, David M. Konschnik, Director, Office of Proceedings.
Vernon A. Williams,
Secretary.

[FR Doc. 05-1006 Filed 1-18-05; 8:45 am]

BILLING CODE 4915-01-P